SURFACE TRANSPORTATION BOARD

60-Day Notice of Intent To Seek Extension of Approval: Household Goods Movers' Disclosure Requirements

AGENCY: Surface Transportation Board.

ACTION: Notice and request for comments.

SUMMARY: As required by the Paperwork Reduction Act of 1995, the Surface Transportation Board (STB or Board) gives notice of its intent to seek approval from the Office of Management and Budget (OMB) for an extension of the information collection (here, third-party disclosures), as described below.

DATES: Comments on this information collection should be submitted by April 24, 2020.

ADDRESSES: Direct all comments to Chris Oehrle, Surface Transportation Board, 395 E Street SW, Washington, DC 20423-0001, or to PRA@stb.gov. When submitting comments, please refer to “Paperwork Reduction Act Comments, Surface Transportation Board: Household Goods Movers' Disclosure Requirements.” For further information regarding this collection, contact Michael Higgins, Deputy Director, Office of Public Assistance, Governmental Affairs, and Compliance, at (202) 245-0284 or michael.higgins@stb.gov. Assistance for the hearing impaired is available through the Federal Relay Service at (800) 877-8339.

SUPPLEMENTARY INFORMATION: Comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collection

Title: Household Goods Movers' Disclosure Requirements.

OMB Control Number: 2140-0027.

STB Form Number: None.

Type of Review: Extension without change.

Respondents: Household goods movers that desire to offer a rate limiting their liability on interstate moves to anything less than replacement value of the goods.

Number of Respondents: 4,500 (approximate number of active household goods carriers in the United States according to the Federal Motor Carrier Safety Administration. See 2019 Pocket Guide to Large Truck and Bus Statistics (January 2020) section 1-7 Household Goods Carriers and Brokers Operating in the United States, 2014-2018)).

Frequency: On occasion.

Total Burden Hours: None. The change to the estimate form was a one-time, start-up cost, which was considered in the cost analysis of the Board's initial approval for this collection. The Board's initial request for approval estimated that 15 of the approximately 4,500 household goods movers were large firms that print their own forms and would have to produce modified forms to meet the new requirement. Further, any new large mover entrants would have to create forms based on other agency regulations—with or without the released rate disclosure—and, therefore, there is no hourly burden for this collection.

Total “Non-hour Burden” Cost: Movers may provide these forms to shippers electronically. Further, as with the burden hours above, the one-time, start-up costs that were previously considered will no longer apply to existing movers, and new entrants will not incur any significant cost to add released rate information to the forms already required under other agency regulations. Therefore, there is no discernable, non-hourly cost burden for this collection.

Needs and Uses: In the Safe, Accountable, Flexible, Efficient Transportation Equity Act: A Legacy for Users, § 4215, Public Law 109-59, 119 Stat. 1144, 1760 (2005), Congress directed the Board to review consumer protection regulations concerning the loss or damage that occurs during interstate household goods moves. In Docket No. RR 999, the Board required household goods motor carriers and freight forwarders wishing to offer a rate limiting their liability on interstate moves to anything less than replacement value of the goods to provide their customers with clear written information concerning the two available cargo-liability options (a full replacement-value protection option and a lower, released-rate protection option). Movers are required to provide this information on the standard written estimate form that the Federal Motor Carrier Safety Administration requires movers to provide to their household goods moving customers. See 49 CFR 375.213. This information allows for early notice to household goods moving customers regarding the two liability options, as well as adequate time and information to help consumers decide which option to choose. If the customer elects anything other than full-value protection, the mover must inform the customer of his or her rights and obtain a signed waiver, as provided on the form. In doing so, this collection enables the Board to meet its statutory duty.

Under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: February 19, 2020.
Jeffrey Herzig,
Clearance Clerk.

[FR Doc. 2020-03594 Filed 2-21-20; 8:45 am]

BILLING CODE 4915-01-P